ENVIRONMENTAL PROTECTION AGENCY

[FRL-9110-9]

EPA Science Advisory Board Staff Office Request for Nominations of Experts for the SAB Lead (Pb) Review Panel

AGENCY: Environmental Protection Agency (EPA).

ACTION: Notice; Request for Nominations.

SUMMARY: The Science Advisory Board (SAB) Staff Office is requesting public nominations of experts to form an SAB Ad Hoc Panel to review EPA's draft technical analyses which will be used to support the development of lead-based paint dust hazard standards and lead-safe work practice standards.

DATES: Nominations should be submitted by February 26, 2010 per instructions below.

FOR FURTHER INFORMATION CONTACT: Any member of the public wishing further information regarding this Request for Nominations may contact Mr. Aaron Yeow, Designated Federal Officer (DFO), SAB Staff Office, by telephone/voice mail at (202) 343-9878; by fax at (202) 233-0643; or via e-mail at yeow.aaron@epa.gov. General information concerning the EPA Science Advisory Board can be found on the EPA SAB Web site at http://www.epa.gov/sab.

SUPPLEMENTARY INFORMATION: Background: Human exposure to lead may cause a variety of adverse health effects, particularly in children. EPA's Office of Pollution Prevention and Toxics (OPPT) regulates toxic substances, such as lead, through the Toxic Substances Control Act (TSCA). In 2001, EPA established standards for lead-based paint hazards, which include lead in residential dust. OPPT is developing draft technical analyses that will be used to support: (a) Possible revision of existing residential lead-based paint dust hazard standards, (b) the development of new lead-based paint dust hazard standards for public and commercial buildings, and (c) the development of lead-safe work practice standards for renovations of public and commercial buildings. OPPT has requested that the SAB conduct a review of these draft technical analyses.

The SAB was established by 42 U.S.C. 4365 to provide independent scientific and technical advice, consultation and recommendations to the EPA Administrator on the technical basis for Agency positions and regulations. The SAB Staff Office will form an expert Panel to review OPPT's draft technical analyses. The SAB Panel will comply with the provisions of the Federal Advisory Committee Act (FACA) and all appropriate SAB procedural policies. Upon completion, the Panel's report will be submitted to the chartered SAB for final approval for transmittal to the EPA Administrator. The SAB Lead Review Panel is being asked to comment on the scientific soundness of the Agency's draft technical analyses.

Availability of the Review Materials: The EPA draft technical analyses to be reviewed by the SAB Panel will be made available on the SAB Web site. For questions concerning the review materials, please contact Dr. Jennifer Seed, at (202) 564-7634, or seed.jennifer@epa.gov.

Request for Nominations: The SAB Staff Office is requesting nominations of nationally recognized experts with expertise in one or more of the following areas, particularly with respect to lead: dust transport, exposure assessment, epidemiology, general toxicology, neurotoxicology, pediatrics, biokinetic modeling, biostatistics, and risk assessment.

Process and Deadline for Submitting Nominations: Any interested person or organization may nominate qualified individuals for possible service on the SAB Review Panel in the areas of expertise described above. Nominations should be submitted in electronic format (which is preferred over hard copy) following the instructions for “Nominating Experts to Advisory Panels and Ad Hoc Committees Being Formed” provided on the SAB Web site. The instructions can be accessed through the “Nomination of Experts” link on the blue navigational bar on the SAB Web site at http://www.epa.gov/sab. To receive full consideration, nominations should include all of the information requested.

EPA's SAB Staff Office requests: Contact information about the person making the nomination; contact information about the nominee; the disciplinary and specific areas of expertise of the nominee; the nominee's curriculum vitae; sources of recent grants and/or contracts; and a biographical sketch of the nominee indicating current position, educational background, research activities, and recent service on other national advisory committees or national professional organizations.

Persons having questions about the nomination procedures, or who are unable to submit nominations through the SAB Web site, should contact Mr. Aaron Yeow, DFO, as indicated above in this notice. Nominations should be submitted in time to arrive no later than February 26, 2010. EPA values and welcomes diversity. In an effort to obtain nominations of diverse candidates, EPA encourages nominations of women and men of all racial and ethnic groups.

The EPA SAB Staff Office will acknowledge receipt of nominations. The names and biosketches of qualified nominees identified by respondents to the Federal Register notice and additional experts identified by the SAB Staff will be posted on the SAB Web site at http://www.epa.gov/sab. Public comments on this list of candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, can be influenced by work history and affiliation), and the collective breadth of experience to adequately address the charge. In establishing the SAB Panel, the SAB Staff Office will consider public comments on the list of candidates, information provided by the candidates themselves, and background information independently gathered by the SAB Staff Office. Selection criteria to be used for Panel membership include: (a) Scientific and/or technical expertise, knowledge and experience (primary factors); (b) availability and willingness to serve; (c) absence of financial conflicts of interest; (d) absence of an appearance of a lack of impartiality; (e) skills working on committees, subcommittees and advisory panels for the Panel as a whole; and (f) diversity and balance among scientific expertise and viewpoints.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated January 28, 2010.
Anthony F. Maciorowski,
Deputy Director, EPA Science Advisory Board Staff Office.

[FR Doc. 2010-2535 Filed 2-4-10; 8:45 am]

BILLING CODE 6560-50-P